FEDERAL EMERGENCY MANAGEMENT AGENCY

44 CFR Part 67

[Docket No. FEMA-P-7605]

Proposed Flood Elevation Determinations

AGENCY: Federal Emergency Management Agency (FEMA).

ACTION: Proposed rule.

SUMMARY: Technical information or comments are requested on the proposed Base (1% annual-chance) Flood Elevations (BFEs) and proposed BFE modifications for the communities listed below. The BFEs and modified BFEs are the basis for the floodplain management measures that the community is required either to adopt or to show evidence of being already in effect in order to qualify or remain qualified for participation in the National Flood Insurance Program (NFIP).

DATES: The comment period is ninety (90) days following the second publication of this proposed rule in a newspaper of local circulation in each community.

ADDRESSES: The proposed BFEs for each community are available for inspection at the office of the Chief Executive Officer of each community. The respective addresses are listed in the table below.

FOR FURTHER INFORMATION CONTACT: Matthew B. Miller, P.E., Chief, Hazards Study Branch, Federal Insurance and Mitigation Administration, FEMA, 500 C Street, SW., Washington, DC 20472, (202) 646-3461 or (e-mail) matt.miller@fema.gov.

SUPPLEMENTARY INFORMATION: FEMA proposes to make determinations of BFEs and modified BFEs for each community listed below, in accordance with Section 110 of the Flood Disaster Protection Act of 1973, 42 U.S.C. 4104, and 44 CFR 67.4(a).

These proposed BFEs and modified BFEs, together with the floodplain management criteria required by 44 CFR 60.3, are the minimum that are required. They should not be construed to mean that the community must change any existing ordinances that are more stringent in their floodplain management requirements. The community may at any time enact stricter requirements of its own, or pursuant to policies established by other Federal, State, or regional entities. These proposed elevations are used to meet the floodplain management requirements of the NFIP and are also used to calculate the appropriate flood insurance premium rates for new buildings built after these elevations are made final, and for the contents in these buildings.

National Environmental Policy Act. This proposed rule is categorically excluded from the requirements of 44 CFR part 10, Environmental Consideration. No environmental impact assessment has been prepared.

Regulatory Flexibility Act. The Acting Administrator for Federal Insurance and Mitigation Administration certifies that this proposed rule is exempt from the requirements of the Regulatory Flexibility Act because proposed or modified BFEs are required by the Flood Disaster Protection Act of 1973, 42 U.S.C. 4104, and are required to establish and maintain community eligibility in the NFIP. No regulatory flexibility analysis has been prepared.

Regulatory Classification. This proposed rule is not a significant regulatory action under the criteria of Section 3(f) of Executive Order 12866 of September 30, 1993, Regulatory Planning and Review, 58 FR 51735.

Executive Order 12612, Federalism. This proposed rule involves no policies that have federalism implications under Executive Order 12612, Federalism, dated October 26, 1987.

Executive Order 12778, Civil Justice Reform. This proposed rule meets the applicable standards of Section 2(b)(2) of Executive Order 12778.

List of Subjects in 44 CFR Part 67

Administrative practice and procedure, Flood insurance, Reporting and recordkeeping requirements.

Accordingly, 44 CFR Part 67 is proposed to be amended as follows:

PART 67—[AMENDED]

1. The authority citation for Part 67 continues to read as follows:

Authority: 42 U.S.C. 4001 et seq.; Reorganization Plan No. 3 of 1978, 3 CFR, 1978 Comp., p. 329; E.O. 12127, 44 FR 19367, 3 CFR, 1979 Comp., p. 376.

§ 67.4 [Amended]

2. The tables published under the authority of § 67.4 are proposed to be amended as follows:

State | City/town/county | Source of flooding | Location | #Depth in feet above ground. *Elevation in feet. (NGVD) A(NAVD): Existing | #Depth in feet above ground. *Elevation in feet. (NGVD) A(NAVD): Modified
AR | Vadnais Heights, City of Ramsey County | Ponding Area | Pond west of McMenemy Road, north of Meadowood Lane, and southeast Foothill Trail | None | *889
|  |  | Ponding area northeast of the intersection of McMenemy Road and Commerce Court | None | *892
|  | Ponding Area | Ponding area north of Commerce Court and south of Oak Grove Parkway and west of SOO Line Railroad | None | *904
|  |  | Ponding area north of Oak Grove Parkway approximately 1,500 feet east of its intersection with McMenemy Road | None | *918
|  |  | Ponding area east of the SOO Line Railroad, north of Spring Hill Road and west of Morningside Avenue | None | *912
|  |  | Pond north of Willow Grove Lane and west of Greenhaven Drive | None | *915
|  |  | Pond north of Clearbrook Lane, east of Bramblewood Avenue, west of Evergreen Drive and South of Birch Ridge Road | None | *920
|  |  | Pond north of Heritage Court East and South of Valley Oaks Road | None | *941
|  |  | Ponding area south of Westfield Lane, east and north of Oakcrest Drive and north of South Oak Drive | None | *902
|  |  | Ponding area south of North Oak Drive, west of Thornhill Lane, and North of County Road “F” | None | *898
|  | Ponding area | Ponding area south of Bridgewood Terrace, east of Thornhill Lane and west of Centerville Road | None | *907
|  |  | Ponding area north of County Road “F,” east of Thornhill Lane and west of Centerville Road | None | *901
|  |  | Ponding area along Edgerton Street, south of Bear Avenue North and north of Stockdale Road | None | *897
|  |  | Ponding area along Arcade Street and Stockdale Road, south of County Road “F,” north of Kohler Road, east of Stockdale Drive and west of Centerville Road | None | *896
|  |  | Ponding area east of Interstate 35E, south of the Burlington Northern Railroad, west of Labore Road and north of County Road “E” | None | *908
|  |  | Ponding area north of Hiawatha Avenue, west of Greenbrier Street, and south of the Burlington Northern Railroad | None | *904
|  |  | Ponding area east of Centerville Road, and north of Vadnais Road | None | *900
|  |  | Pond south of Manor Street and north of Interstate 694 | None | *909
|  | Ponding area | Ponds south of Vadnais Center Drive, east of Interstate 35 and west of the intersection of Labore Road and Willow Lake Boulevard | None | *915
|  |  | Willow Lake | None | *884
|  |  | Ponding area south of County Road “E,” east of Montmorency Street and north of Willow Lake Boulevard | None | *949
Maps are available for inspection at City Hall, 800 East County Road E, Vadnais Heights, Minnesota.
Send comments to the Honorable Susan Banovetz, Mayor, City of Vadnais Heights, 800 East County Road E, Vadnais Heights, MN 55127.
IA | Marshall County (Unincorporated Areas) | Iowa River |  | *861 | *881
Maps are available for inspection at the Marshall County Court House, 1 East Main Street, Marshalltown, Iowa.
Send comments to The Honorable Gordie Johnson, Chairman, Marshall County Board of Supervisors, 1 East Main Street, Marshalltown, Iowa 50158.
MO | Madison County (Unincorporated Areas) | Little St. Francis River | Approximately 8,550 feet downstream of West Main Street | None | *703
|  |  | Approximately 3,960 feet downstream of the Missouri Pacific Railroad | None | *716
|  | Saline Creek | Approximately 530 feet upstream of the abandoned Railroad Spur | None | *718
|  |  | Approximately 2,510 feet upstream of the abandoned Railroad Spur | None | *726
|  | Village Creek | Just downstream of Catherine Mine Road | None | *707
|  |  | Just downstream of the Missouri Pacific Railroad | None | *709
Maps are available for inspection at Madison County Courthouse, #1 Courthouse Square, Fredericktown, Missouri.
Send comments to the Honorable Robert Mooney, Presiding Commissioner, Madison County Courthouse, #1 Courthouse Square, Fredericktown, Missouri 63645.
TX | Corinth, Town of Denton County | Swisher Creek | At North Shady Shores Road | *537 | *537
| Lake Dallas, City of Denton County | Swisher Creek | At Jean Street about 70 feet east of Fairview Drive | None | *579
|  | GS-1 | At North Shady Shores Road | *537 | *537
| Shady Shores, Town of Denton County | GS-1 | About 100 feet upstream of Dobbs Road | None | *552
Maps are available for inspection at Denton County Government Center, 306 North Loop 288, Suite 115, Denton, Texas.
Send comments to the Honorable Scott Armey, Court-House-on-the-Square, 110 West Hickory Street, Denton, Texas 76201.
Maps are available for inspection at the Town Hall, 2003 South Corinth Street, Corinth, Texas.
Send comments to The Honorable J. B. Troutman, Town Hall, 2003 South Corinth Street, Corinth, Texas 76205.
Maps are available for inspection at City Hall, 303 Alamo, Lake Dallas, Texas.
Send comments to The Honorable Steve Wohr, City Hall, 303 Alamo Avenue, Lake Dallas, Texas 75065.
Maps are available for inspection at City Hall, 101 South Shady Shores Road, Shady Shores, Texas.
Send comments to The Honorable Olive Stephens, P.O. Box 362, Lake Dallas, Texas 75065.
TX | Town of Leona, Leon County | Adkisson Branch |  | •298 | •325
|  | Leona Branch |  | •300 | •356
|  | Leona Branch Tributary 1 |  | •315 | •349
|  | Leona Branch Tributary 2 |  | •299 | •315
Maps are available for inspection at City Hall, Highway 75, Leona, Texas.
Send comments to The Honorable Travis Oden, Mayor, Town of Leona, P.O. Box 193, Leona, Texas 75850.

(Catalog of Federal Domestic Assistance No. 83.100, “Flood Insurance.”)
Dated: May 14, 2002.
Robert F. Shea,
Acting Administrator, Federal Insurance and Mitigation Administration.

[FR Doc. 02-12650 Filed 5-20-02; 8:45 am

BILLING CODE 6718-04-P